DEPARTMENT OF HEALTH AND HUMAN SERVICES

Health Resources and Services Administration

Proposed Change in State Title V Maternal and Child Health Block Grant Allocations

AGENCY: Health Resources and Services Administration, HHS.

ACTION: Notice.

SUMMARY: This notice seeks comments on proposed changes in the State Title V Maternal and Child Health (MCH) Block Grant allocations. Through the Health Resources and Services Administration's Maternal and Child Health Bureau (MCHB), Title V MCH Block Grant funds are allocated to States based in part on a calculation of the number of children living in poverty (in an individual State) as compared to the total number of children living in poverty in the United States, using data for the number of children in poverty in each State from the U.S. Census Bureau's official decennial census. As the Census Bureau has replaced the decennial census long-form sample questionnaire with the American Community Survey (ACS), MCHB likewise plans to use the ACS as its source for this data. The ACS offers broad, comprehensive information on social, economic, and housing data and is designed to provide this information at many levels of geography. ACS child poverty estimates are produced annually and will allow the Block Grant allocation proportions to be updated more frequently than every 10 years. The Census Bureau produces annual State-level poverty estimates based on the most recent 1, 3, and 5 years of ACS data as well as annual model-based Small Area Income and Poverty Estimates (SAIPE). It is proposed that MCHB implement annual changes to the State Title V MCH Block Grant allocations using the 3-year ACS poverty estimates, wherein each annual change is buffered by sharing 2 of 3 data years in a 3-year rolling period estimate.

DATES: Interested persons are invited to comment on this proposed change. Submit written comments no later than September 18, 2012. All comments received on or before this date will be considered.

ADDRESSES: All written comments concerning this notice should be submitted to Cassie Lauver, Director, Division of State and Community Health, at the contact information below.

FOR FURTHER INFORMATION CONTACT: Anyone requesting additional details should contact Cassie Lauver, Health Resources and Services Administration, Maternal and Child Health Bureau. Ms. Lauver may be reached in one of the three following methods: (1) Via a written request addressed to: Ms. Cassie Lauver, Health Resources and Services Administration, Maternal and Child Health Bureau, Parklawn Building, Room 18-31, 5600 Fishers Lane, Rockville, Maryland 20857; (2) via telephone at (301) 443-2204; or (3) via email at mchbformula@hrsa.gov. In addition, an information session with a question and answer period on the proposed change in the State Title V Maternal and Child Health Block Grant Allocations will be held approximately 2 weeks after publication of this notice. Please see http://www.mchb.hrsa.gov for more information. Dr. Michael C. Lu, Associate Administrator of MCHB, will serve as a presenter for this session.

SUPPLEMENTARY INFORMATION: HRSA is proposing to use the U.S. Census Bureau's ACS data to determine the annual poverty-based allocations to States under Section 502 of Title V of the Social Security Act (42 U.S.C. 702). Previously, MCHB used the child poverty data obtained from the long-form of the decennial census and the poverty-based allocation was updated every 10 years. The long-form questionnaire has been replaced by the annual ACS. Given the annual availability of updated ACS child poverty data, annual changes in the allocation proportion would enable incremental change and greater currency than updating at periodic non-annual intervals (e.g., every 5 years). State-level poverty data are annually released by the Census Bureau based on the most recent 1, 3, and 5-year ACS data and single-year Small Area Income and Poverty Estimates (SAIPE). Researchers in MCHB's Office of Epidemiology and Research (OER) evaluated the impact of using 1, 3, and 5-year ACS data and the single-year SAIPE on annual poverty-based allocation changes as well as overall allocation changes. Consistent with the Census Bureau documentation and guidelines, the poverty data are most current and least precise through the use of 1-year data and least current but most precise through the use of 5-year data. OER recommends that MCHB implement annual changes to the State Title V MCH Block Grant allocations using the 3-year ACS poverty estimates, which strike a reasonable balance between reliability (strength of 5-year estimates) and currency (strength of 1-year estimates). The 3-year estimates provide necessary stability in annual poverty-based allocation changes for all States, regardless of size, while still allowing the allocations to be responsive to changes in the distribution of children in poverty across States. Since they are not buffered as a multiyear moving period estimate, the 1-year estimates from both ACS and the model-based SAIPE introduce higher levels of volatility in annual changes of the poverty-based allocation proportions, particularly for smaller States with greater sampling error. The 5-year estimates are least current and do not provide meaningfully different stability in annual changes in comparison with the 3-year estimates. With the 3-year estimates for Fiscal Year 2013 already available, States will have ample opportunity to plan for the adjustment from the existing allocation proportions based on the 2000 census and will be aware of the poverty-based allocation proportions close to a year in advance of each subsequent fiscal year (annually released in October).

Dated: July 12, 2012.
Mary K. Wakefield,
Administrator.

[FR Doc. 2012-17736 Filed 7-19-12; 8:45 am]

BILLING CODE 4165-15-P